DEPARTMENT OF TRANSPORTATION

Federal Aviation Administration

14 CFR Part 71

[Docket No. FAA-2016-9555; Airspace Docket No. 16-AGL-2]

Proposed Modification and Revocation of Multiple Air Traffic Service (ATS) Routes; Northcentral United States

AGENCY: Federal Aviation Administration (FAA), DOT.

ACTION: Supplemental notice of proposed rulemaking (SNPRM).

SUMMARY: This action proposes to amend and remove multiple VHF Omnidirectional Range (VOR) Federal airways in northcentral United States to reflect additional amendments to several Federal airways impacted by the decommissioning of the Tiverton, OH, VOR/Distance Measuring Equipment (VOR/DME) navigation aid. The route changes would be made as part of the FAA's Next Generation Air Transportation System (NextGen) efforts to safely improve the overall efficiency of the National Airspace System (NAS).

DATES: Comments must be received on or before September 18, 2017.

ADDRESSES: Send comments on this proposal to the U.S. Department of Transportation, Docket Operations, 1200 New Jersey Avenue SE., West Building Ground Floor, Room W12-140, Washington, DC 20590; telephone: 1 (800) 647-5527, or (202) 366-9826. You must identify FAA Docket No. FAA-2016-9555 and Airspace Docket No. 16-AGL-2 at the beginning of your comments. You may also submit comments through the Internet at http://www.regulations.gov. You may review the public docket containing the proposal, any comments received, and any final disposition in person in the Dockets Office between 9:00 a.m. and 5:00 p.m., Monday through Friday, except Federal holidays. The Docket Office (telephone 1 (800) 647-5527), is on the ground floor of the building at the above address.

FAA Order 7400.11A, Airspace Designations and Reporting Points, and subsequent amendments can be viewed online at http://www.faa.gov/air_traffic/publications/. For further information, you can contact the Airspace Policy Group, Federal Aviation Administration, 800 Independence Avenue SW., Washington, DC 20591; telephone: (202) 267-8783. The Order is also available for inspection at the National Archives and Records Administration (NARA). For information on the availability of FAA Order 7400.11A at NARA, call (202) 741-6030, or go to http://www.archives.gov/federal_register/code_of_federal-regulations/ibr_locations.html.

FAA Order 7400.11, Airspace Designations and Reporting Points, is published yearly and effective on September 15.

FOR FURTHER INFORMATION CONTACT: Colby Abbott, Airspace Policy Group, Office of Airspace Services, Federal Aviation Administration, 800 Independence Avenue SW., Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the NAS route structure as necessary to preserve the safe and efficient flow of air traffic within the NAS.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2016-9555 and Airspace Docket No. 16-AGL-2) and be submitted in triplicate to the Docket Management Facility (see ADDRESSES section for address and phone number). You may also submit comments through the internet at http://www.regulations.gov.

Commenters wishing the FAA to acknowledge receipt of their comments on this action must submit with those comments a self-addressed, stamped postcard on which the following statement is made: “Comments to FAA Docket No. FAA-2016-9555 and Airspace Docket No. 16-AGL-2.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRMs

An electronic copy of this document may be downloaded through the internet at http://www.regulations.gov. Recently published rulemaking documents can also be accessed through the FAA's Web page at http://www.faa.gov/air_traffic/publications/airspace_amendments/.

You may review the public docket containing the proposal, any comments received and any final disposition in person in the Dockets Office (see ADDRESSES section for address and phone number) between 9:00 a.m. and 5:00 p.m., Monday through Friday, except Federal holidays. An informal docket may also be examined during normal business hours at the office of the Operations Support Group, Central Service Center, Federal Aviation Administration, 10101 Hillwood Blvd., Fort Worth, TX 76177.

Availability and Summary of Documents for Incorporation by Reference

This document proposes to amend FAA Order 7400.11A, Airspace Designations and Reporting Points, dated August 3, 2016, and effective September 15, 2016. FAA Order 7400.11A is publicly available as listed in the ADDRESSES section of this document. FAA Order 7400.11A lists Class A, B, C, D, and E airspace areas, air traffic service routes, and reporting points.

Background

On February 27, 2017, the FAA published in the Federal Register a notice of proposed rulemaking (NPRM) proposing to amend and remove multiple VOR Federal airways in northcentral United States to reflect and accommodate route changes being made as part of the FAA's Cleveland/Detroit Metroplex Project airspace redesign effort (82 FR 11859). Interested parties were invited to participate in this rulemaking effort by submitting written comments on the proposal. No comments were received.

Subsequent to publication, the FAA initiated a project for decommissioning the Tiverton, OH, VOR/DME due to the land-lease for the navigation aid expiring September 30, 2018, and not being renewed. With the planned decommissioning of the Tiverton VOR/DME occurring, several of the Federal airways proposed for amendment in the NPRM are impacted and will require additional amendment. Based on the timing of the NPRM and the planned Tiverton VOR/DME decommissioning project, and that several airways are affected by both actions, the FAA decided to incorporate both activities into this airspace docket action. By merging the planned Tiverton VOR/DME decommissioning activity with this action, additional proposed amendments to V-92, V-133, and V-210 are necessary. Additionally, NAV CANADA has amended V-43 within Canada's airspace that requires the FAA to adjust the proposed amendment to V-43. The remaining Federal airways associated with the Tiverton VOR/DME (V-443, V-523, and V-525) require no additional proposed amendments beyond those proposed in the NPRM.

Additionally, the FAA reviewed the airway amendments proposed in the NPRM and the Cleveland/Detroit Metroplex project redesign and has now determined the two activities are in fact independent of each other and not connected. The FAA mischaracterized the connection between the redesign and the airway changes in the NPRM. The airway amendments proposed in the NPRM support the FAA's NextGen efforts to safely improve the overall efficiency of the NAS.

Since several airway amendments proposed in the NPRM require further amendment, and the NPRM characterization requires clarification that the airway amendments proposed in the NPRM support the FAA's NextGen efforts independent from the FAA's Cleveland/Detroit Metroplex project activities, the FAA has determined it is necessary to reopen the comment period to provide additional opportunity for public comment.

The FAA is undertaking this action in support of its NextGen goal to safely improve the overall efficiency of the NAS by increasing efficiencies in the enroute structure and areas with complex air traffic flows. More specifically, the proposed changes would enhance the way aircraft navigate the enroute airspace, improve airport access, and make flight routes more efficient by optimizing the operations and procedures based on satellite-based navigation.

Lastly, the FAA plans to continue NextGen modernization efforts of the Cleveland and Detroit terminal radar approach control (TRACON) airspace areas, at a later date, by working with the facilities to establish RNAV T-routes designed to enhance the flow of traffic through their busy terminal airspace areas. Any new RNAV T-routes that result from that process will be proposed in a separate airspace docket action.

Differences From NPRM

The legal description to V-2 is revised to reflect the proposed amendment.

The proposed amendment to V-43 is revised to include removing the airway segment between the Erie, PA, VORTAC and the Buffalo, NY, VOR/DME.

The proposed amendment to V-92 is revised to include removing the airway segments between the intersection of the Chicago Heights, IL, VORTAC 358° and Chicago O'Hare, IL, VOR/DME 127° radials (BEBEE fix) and the Chicago Heights, IL, VORTAC; between the Goshen, IN, VORTAC and the intersection of the Goshen, IN, VORTAC 092°(T)/092°(M) and Fort Wayne, IN, VORTAC 016°(T)/016°(M) radials (ILTON fix); and between the Tiverton, OH, VOR/DME and the Newcomerstown, OH, VOR/DME.

The proposed amendment to V-133 is revised to include removing the airway segment between the Zanesville, OH, VOR/DME and the Tiverton, OH, VOR/DME.

The proposed amendment to V-210 is revised to include removing the airway segment between the Rosewood, OH, VORTAC and the Tiverton, OH, VOR/DME.

The Proposal

The FAA is proposing an amendment to Title 14, Code of Federal Regulations (14 CFR) part 71 to modify VOR Federal airways V-43, V-92, V-133, and V-210. Those airway amendments are outlined below.

V-2: The proposed amendment is unchanged, the FAA identified a typographical error in the regulatory text of the V-2 description. The description inadvertently included “, 259° radials; Buffalo” after “From Buffalo, NY” in describing the airway segment between the Buffalo, NY, VOR/DME and the Gardner, MA, VOR/DME. The regulatory text for the V-2 airway segment between the Buffalo, NY, VOR/DME and the Gardner, MA, VOR/DME is corrected in this SNPRM to read, “From Buffalo, NY; Rochester, NY; Syracuse, NY; Utica, NY; Albany, NY; INT Albany 084° and Gardner, MA, 284° radials; to Gardner.”

V-43: V-43 currently extends between the Appleton, OH, VORTAC and the Buffalo, NY, VOR/DME. The FAA proposes to remove the airway segment between the Appleton, OH, VORTAC and the Youngstown, OH, VORTAC; and between the Erie, PA, VORTAC and the Buffalo, NY, VOR/DME. Additionally, this proposal removes the previously proposed addition of an exclusion statement for the airspace within Canada. The unaffected portion of the existing airway would remain unchanged.

V-92: V-92 currently extends between the intersection of the Chicago Heights, IL, VORTAC 358° and Chicago O'Hare, IL, VOR/DME 127° radials (BEBEE fix) and the Armel, VA, VOR/DME. The FAA proposes to remove the airway segments between the intersection of the Chicago Heights, IL, VORTAC 358° and Chicago O'Hare, IL, VOR/DME 127° radials (BEBEE fix) and the Chicago Heights, IL, VORTAC; and between the Goshen, IN, VORTAC and the Newcomerstown, OH, VOR/DME. The unaffected portions of the existing airway would remain unchanged.

V-133: V-133 currently extends between the intersection of the Charlotte, NC, VOR/DME 305° and Barretts Mountain, NC, VOR/DME 197° radials (LINCO fix) and the Mansfield, OH, VORTAC; and between the Salem, MI, VORTAC and the Red Lake, ON, Canada, VOR/DME; excluding the airspace within Canada. The FAA proposes to remove the airway segment between the Zanesville, OH, VOR/DME and the Mansfield, OH, VORTAC; and between the Salem, MI, VORTAC and the Saginaw, MI, VOR/DME. The unaffected portions of the existing airway and the exclusion statement for the airspace within Canada would remain unchanged.

V-210: V-210 currently extends between the Los Angeles, CA, VORTAC and the Okmulgee, OK, VOR/DME; and between the Brickyard, IN, VORTAC and the Yardley, PA, VOR/DME. The FAA proposes to remove the airway segment between the Rosewood, OH, VORTAC and the Revloc, PA, VOR/DME. The unaffected portions of the existing airway would remain unchanged.

The remaining VOR Federal airway amendments and removals proposed in the NPRM published in the Federal Register (82 FR 11859, February 27, 2017) are unchanged.

All radials in the route descriptions below are unchanged and stated in True degrees.

VOR Federal airways are published in paragraph 6010(a) of FAA Order 7400.11A, dated August 3, 2016, and effective September 15, 2016, which is incorporated by reference in 14 CFR 71.1. The VOR Federal airways listed in this document would be subsequently published in the Order.

Regulatory Notices and Analyses

The FAA has determined that this proposed regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.11A, Airspace Designations and Reporting Points, dated August 3, 2016 and effective September 15, 2016, is amended as follows:

Paragraph 6010(a) Domestic VOR Federal Airways.

* * * * *

V-2 [Amended]

From Seattle, WA; Ellensburg, WA; Moses Lake, WA; Spokane, WA; Mullan Pass, ID; Missoula, MT; Helena, MT; INT Helena 119° and Livingston, MT, 322° radials; Livingston; Billings, MT; Miles City, MT; 24 miles, 90 miles, 55 MSL, Dickinson, ND; 10 miles, 60 miles, 38 MSL, Bismarck, ND; 14 miles, 62 miles, 34 MSL, Jamestown, ND; Fargo, ND; Alexandria, MN; Gopher, MN; Nodine, MN; Lone Rock, WI; Madison, WI; Badger, WI; Muskegon, MI; to Lansing, MI. From Buffalo, NY; Rochester, NY; Syracuse, NY; Utica, NY; Albany, NY; INT Albany 084° and Gardner, MA, 284° radials; to Gardner.

* * * * *

V-43 [Amended]

From Youngstown, OH; to Erie, PA.

* * * * *

V-92 [Amended]

From Chicago Heights, IL; to Goshen, IN. From Newcomerstown, OH; Bellaire, OH; INT Bellaire 107° and Grantsville, MD, 285° radials; Grantsville; INT Grantsville 124° and Armel, VA, 292° radials; to Armel.

* * * * *

V-133 [Amended]

From INT Charlotte, NC, 305° and Barretts Mountain, NC, 197° radials; Barretts Mountain; Charleston, WV; to Zanesville, OH. From Saginaw, MI; Traverse City, MI; Escanaba, MI; Sawyer, MI; Houghton, MI; Thunder Bay, ON, Canada; International Falls, MN; to Red Lake, ON, Canada. The airspace within Canada is excluded.

* * * * *

V-210 [Amended]

From Los Angeles, CA, INT Los Angeles 083° and Pomona, CA, 240° radials; Pomona; INT Daggett, CA, 229° and Hector, CA, 263° radials; Hector; Goffs, CA; 13 miles, 23 miles 71 MSL, 85 MSL, Peach Springs, AZ; Grand Canyon, AZ; Tuba City, AZ; 10 miles 90 MSL, 91 miles 105 MSL, Rattlesnake, NM; Alamosa, CO; INT Alamosa 074° and Lamar, CO, 250° radials; 40 miles, 51 miles, 65 MSL, Lamar; 13 miles, 79 miles, 55 MSL, Liberal, KS; INT Liberal 137° and Will Rogers, OK, 284° radials; Will Rogers; INT Will Rogers 113° and Okmulgee, OK, 238° radials; Okmulgee. From Brickyard, IN, Muncie, IN; to Rosewood, OH. From Revloc, PA; INT Revloc 096° and Harrisburg, PA, 285° radials; Harrisburg; Lancaster, PA; INT Lancaster 095° and Yardley, PA, 255° radials; to Yardley.

* * * * *

Issued in Washington, DC, on July 26, 2017.
Rodger A. Dean, Jr.,
Manager, Airspace Policy Group.

[FR Doc. 2017-16174 Filed 8-1-17; 8:45 am]

BILLING CODE 4910-13-P